DEPARTMENT OF JUSTICE

Antitrust Division

Notice Pursuant to the National Cooperative Research and Production Act of 1993—Project DeepLook

Notice is hereby given that, on October 13, 1999, pursuant to section 6(a) of the National Cooperative Research and Production Act of 1993, 15 U.S.C. 4301 et seq. (“the Act”), Project DeepLook has filed written notifications simultaneously with the Attorney General and the Federal Trade Commission disclosing changes in its membership status. The notifications were filed for the purpose of extending the Act's provisions limiting the recovery of antitrust plaintiffs to actual damages under specified circumstances. Specifically, Aramco Services Company, Houston, TX; CiDRA Corporation, Houston, TX; Gas Research Institute, Chicago, IL; and Baker Hughes, Houston, TX have been added as parties to this venture. Also, Mobil Technology Company, Dallas, TX; and Western Atlas International, Inc., Houston, TX have been dropped as parties to this venture.

No other changes have been made in either the membership or planned activity of the group research project. Membership in this group research project remains open, and Project DeepLook intends to file additional written notification disclosing all changes in membership. Information regarding participation in the group research project, may be obtained from Edward T. Stoessel, BP Exploration & Oil Co., 200 Westlake Park Blvd., Houston, TX 77079 and Richard J. Goetsch, Esq., BP Amoco Corporation, 200 East Randolph Drive, MC-1907B, Chicago, IL 60601.

On September 18, 1997, Project DeepLook filed its original notification pursuant to section 6(a) of the Act. The Department of Justice published a notice in the Federal Register pursuant to section 6(b) of the Act on October 31, 1997 (62 FR 58983).

Constance K. Robinson,
Director of Operations, Antitrust Division.

[FR Doc. 00-10619 Filed 4-27-00; 8:45 am]

BILLING CODE 4410-11-M